DEPARTMENT OF ENERGY

Federal Energy Regulatory Commission

Combined Notice of Filings #1

Take notice that the Commission received the following exempt wholesale generator filings:

Docket Numbers: EG23-176-000.

Applicants: Antelope Valley BESS, LLC.

Description: Antelope Valley BESS, LLC submits Notice of Self-Certification of Exempt Wholesale Generator Status.

Filed Date: 6/2/23.

Accession Number: 20230602-5262.

Comment Date: 5 p.m. ET 6/23/23.

Take notice that the Commission received the following electric rate filings:

Docket Numbers: ER23-934-001.

Applicants: PJM Interconnection, L.L.C.

Description: Tariff Amendment: Amendment to WMPA, SA No. 4825 re: Effective Date in Docket No. ER23-934 to be effective 3/27/2023.

Filed Date: 6/5/23.

Accession Number: 20230605-5009.

Comment Date: 5 p.m. ET 6/26/23.

Docket Numbers: ER23-1195-001.

Applicants: Midcontinent Independent System Operator, Inc.

Description: Tariff Amendment: 2023-06-05_Deficiency Response to Ramp Capability Products Filing to be effective 9/1/2023.

Filed Date: 6/5/23.

Accession Number: 20230605-5082.

Comment Date: 5 p.m. ET 6/26/23.

Docket Numbers: ER23-1271-001.

Applicants: Niagara Mohawk Power Corporation, New York Independent System Operator, Inc.

Description: Tariff Amendment: Niagara Mohawk Power Corporation submits tariff filing per 35.17(b): NMPC deficiency response re: Segment A Project cost recovery to be effective 8/5/2023.

Filed Date: 6/5/23.

Accession Number: 20230605-5058.

Comment Date: 5 p.m. ET 6/26/23.

Docket Numbers: ER23-1361-001.

Applicants: Southwest Power Pool, Inc.

Description: Tariff Amendment: Deficiency Response—Revisions to Add Enhanced Language to Attachment V to be effective 5/15/2023.

Filed Date: 6/5/23.

Accession Number: 20230605-5034.

Comment Date: 5 p.m. ET 6/26/23.

Docket Numbers: ER23-2070-000.

Applicants: Southwest Power Pool, Inc.

Description: § 205(d) Rate Filing: 3215R14 People's Electric Cooperative NITSA NOAs to be effective 8/1/2023.

Filed Date: 6/2/23.

Accession Number: 20230602-5229.

Comment Date: 5 p.m. ET 6/23/23.

Docket Numbers: ER23-2071-000.

Applicants: Alabama Power Company, Georgia Power Company, Mississippi Power Company.

Description: § 205(d) Rate Filing: Alabama Power Company submits tariff filing per 35.13(a)(2)(iii: Escatawpa Solar Energy (Prospero Solar I) LGIA Filing to be effective 5/22/2023.

Filed Date: 6/5/23.

Accession Number: 20230605-5053.

Comment Date: 5 p.m. ET 6/26/23.

Docket Numbers: ER23-2072-000.

Applicants: Alabama Power Company, Georgia Power Company, Mississippi Power Company.

Description: § 205(d) Rate Filing: Alabama Power Company submits tariff filing per 35.13(a)(2)(iii: Highland Timbers Solar Energy (Prospero Solar II) LGIA Filing to be effective 5/22/2023.

Filed Date: 6/5/23.

Accession Number: 20230605-5054.

Comment Date: 5 p.m. ET 6/26/23.

Docket Numbers: ER23-2073-000.

Applicants: Southwest Power Pool, Inc.

Description: § 205(d) Rate Filing: 2965 SWEPCO/Rayburn Country Elec Coop/ETEC Inter Agr Cancel to be effective 5/25/2023.

Filed Date: 6/5/23.

Accession Number: 20230605-5083.

Comment Date: 5 p.m. ET 6/26/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2023.
Debbie-Anne A. Reese,
Deputy Secretary.

[FR Doc. 2023-12363 Filed 6-8-23; 8:45 am]

BILLING CODE 6717-01-P